DEPARTMENT OF ENERGY

Notice of Intent To Prepare an Environmental Impact Statement for a Proposed Federal Loan Guarantee To Support Construction and Start-Up of the Indiana Gasification, LLC, Industrial Gasification Facility in Rockport, IN

AGENCY: Department of Energy, Loan Guarantee Program.

ACTION: Notice of Intent to Prepare an Environmental Impact Statement, Conduct a Public Scoping Meeting, and Notice of Proposed Floodplain and Wetland Involvement.

SUMMARY: The U.S. Department of Energy (DOE) announces its intent to prepare an environmental impact statement (EIS) pursuant to the National Environmental Policy Act of 1969, as amended (NEPA), the Council on Environmental Quality (CEQ) NEPA regulations, and the DOE NEPA implementing procedures to assess the potential environmental impacts for its proposed action of issuing a Federal loan guarantee to Indiana Gasification, LLC (IG) (DOE/EIS-0429). IG submitted an application to DOE under the Federal loan guarantee program pursuant to the Energy Policy Act of 2005 (EPAct 2005) to support construction and start-up of a coal to substitute natural gas (SNG) facility in Rockport, Indiana (the Facility).¹ The Facility would utilize gasification technology with Illinois Basin coal as the feedstock to produce SNG. Other products from the gasification process would be sulfuric acid, argon, and electric power, all of which would be sold.

¹ The amount requested for the loan guarantee is not being disclosed at this time because it is business sensitive. Moreover, should DOE approve a loan guarantee, the amount may differ from the original request.

The EIS will evaluate the potential impacts of the issuance of a DOE Loan Guarantee for IG's proposed project and the range of reasonable alternatives. The purpose of this Notice of Intent (NOI) is to inform the public about DOE's proposed action; invite public participation in the EIS process; announce plans for a public scoping meeting; solicit public comments for consideration in establishing the scope and content of the EIS; and provide notice of a proposed floodplain and wetlands assessment. DOE invites those agencies with jurisdiction by law or special expertise to be cooperating agencies.

DATES: To ensure that all of the issues related to this proposal are addressed, DOE invites comments on the proposed scope and content of the EIS from all interested parties. Comments must be postmarked or e-mailed by December 14, 2009 to ensure consideration. Late comments will be considered to the extent practicable. In addition to receiving written comments (see ADDRESSES below), DOE will conduct a public scoping meeting in the vicinity of the proposed project at which government agencies, private-sector organizations, and the general public are invited to provide comments or suggestions with regard to the alternatives and potential impacts to be considered in the EIS. The date, time, and location of the public scoping meeting will be announced in local news media and on the DOE Loan Guarantee Program's “NEPA Public Involvement” Web site (http://www.lgprogram.energy.gov/NEPA-2.html) at least 15 days prior to the date of the meeting.

ADDRESSES: Public comments can be submitted electronically or by U.S. mail. Written comments on the proposed EIS scope should be addressed to: Mr. Doug Boren, Loan Guarantee Program Office (CF-1.3), U.S. Department of Energy, 1000 Independence Avenue, SW., Washington, DC 20585. Please submit one signed original paper copy. Electronic submission of comments is encouraged due to processing time required for regular mail. Comments can be submitted electronically by sending an e-mail to: IG-EIS@hq.doe.gov. All electronic and written comments should reference Project No. DOE/EIS-0429.

FOR FURTHER INFORMATION CONTACT: To obtain additional information about this NOI, the public scoping meeting, or to receive a copy of the draft EIS when it is issued, contact Doug Boren by telephone: 202-287-5346; toll-free number: 800-832-0885 ext. 75346; or electronic mail: Douglas.Boren@hq.doe.gov. For general information on the DOE NEPA process, please contact: Ms. Carol M. Borgstrom, Director, Office of NEPA Policy and Compliance (GC-54), U.S. Department of Energy, 1000 Independence Avenue, SW., Washington, DC 20585; telephone: 202-586-4600; facsimile: 202-586-7031; electronic mail: askNEPA@hq.doe.gov; or leave a toll-free message at 800-472-2756.

SUPPLEMENTARY INFORMATION:

Background

EPAct 2005 established a Federal loan guarantee program for eligible energy projects that employ innovative technologies. Title XVII of EPAct 2005 authorizes the Secretary of Energy to make loan guarantees for a variety of types of projects, including those that “avoid, reduce, or sequester air pollutants or anthropogenic emissions of greenhouse gases; and employ new or significantly improved technologies as compared to commercial technologies in service in the United States at the time the guarantee is issued.” The two principal goals of the loan guarantee program are to encourage commercial use in the United States of new or significantly improved energy-related technologies and to achieve substantial environmental benefits. On September 22, 2008, the DOE Loan Guarantee Program Office issued a solicitation for coal based power generation and industrial gasification facilities. A portion of the funds made available in the solicitation come under the authority of the Consolidated Appropriations Act, 2008, P.L. 110-161, which provides loan guarantee support for advanced coal gasification projects. The proposed IG project qualifies under this provision of the loan guarantee authority.

Purpose and Need for Agency Action

IG submitted an application to DOE for a loan guarantee in March 2009, to support construction and start-up of the Facility. The purpose and need for agency action is to comply with DOE's mandate under EPAct 2005 by identifying and providing loan guarantees to eligible projects that meet the goals of the Act. DOE has determined that the IG project meets the two principal goals of the Act—encouraging commercial use of new or significantly improved energy-related technologies, and achieving substantial environmental benefits. The IG Project is expected to operate below the emission limits established in Title XVII of EPAct 2005 for sulfur dioxide, nitrogen oxides, particulate matter, and mercury.

Proposed Action

DOE's proposed action is to issue a loan guarantee to IG to support construction and start-up of the proposed Facility. The Facility would utilize gasification technology with Illinois Basin coal as the feedstock to produce raw syngas that would be further processed to produce SNG. The Facility could handle up to approximately 12,600 tons of coal per day, delivered to the site by barge or rail, to produce up to approximately 153 million standard cubic feet of SNG per day. The SNG would be pipeline quality and could be transported from the Facility to the Midwestern Gas Transmission line (3 miles) and/or the ANR Pipeline (4.5 miles). Byproducts of the gasification process would be sulfuric acid, argon, and electric power, all of which would be sold.

The Facility would employ a variety of technologies. The raw syngas (a mixture of carbon monoxide (CO) and hydrogen (H2)) would be produced using gasification technology, processed to remove sulfur compounds and carbon dioxide (CO2) and converted to SNG using methanation technology. Solid waste (slag) from the process would be sold as a commercial product (e.g., an aggregate substitute) or transported by truck for disposal at a non-hazardous, solid waste landfill. The construction work force would peak at approximately 1,000 workers. The Facility would be operated and maintained by a staff of approximately 200 employees.

The Facility would be designed to be capable of capturing and compressing approximately 85-90 percent of the CO2 produced during the gasification process. IG intends to sell the CO2 to a third party off taker for use in enhanced oil recovery. Construction of a pipeline would be necessary to transport the CO2. IG has an agreement with a potential third party off taker in the Gulf Coast region for the sale of its CO2. The third party off taker would be responsible for construction of a pipeline to transport the CO2 but a commitment from the off taker to construct such a pipeline does not exist at this time, and IG is not proposing to construct a CO2 pipeline as part of the project. In the event a CO2 pipeline is not constructed and no other reasonable alternative to sequester the CO2 is determined, then the CO2 produced during the gasification process would be released to the atmosphere.

The site of the proposed IG Facility is within a 1,300-acre parcel of land located in Spencer County, Indiana. The land is partially within the corporate limits of the City of Rockport. The center of the City of Rockport is approximately 2.3 miles south of the site. The proposed Facility would utilize approximately 600 acres of the site. This would include approximately 200 acres for the main facilities; 200 acres for the rail area, consisting of the railroad spur to be reactivated and a coal unloading and storage area; 70 to 80 acres for road and utility access corridors; 30 acres for an Ohio River barge terminal for the delivery of construction equipment and coal, water intakes, and cooling water discharge; and 100 acres for material lay down, storage and construction parking, including 40 to 80 acres for a process water well-field to facilitate the withdrawal of water from an aquifer at the site, if required. The remaining approximately 700 acres of the proposed project site was made subject to option by IG in order to provide alternative paths from the Ohio River to the Facility site, a source for fill material, wetland mitigation areas, and additional buffer.

Supporting infrastructure and facilities would include local access roads, rail and barge access, water supply and wastewater pipelines, a potential connection to a CO2 pipeline, and a high voltage transmission line to connect the Facility to the electric grid system. DOE plans to analyze the impacts of construction and operation of the supporting infrastructure and facilities in the EIS.

The site is topographically flat and land use in the vicinity of the proposed Facility site is mainly agriculture and undeveloped, with small developed areas to the south and east. Several hundred acres of the proposed project site are considered prime farmland and could be affected by the proposed project. Wetlands comprise about 18 percent of the 1,300-acre optioned property limits. Most of the wetlands are forested wetlands along drainages and former channels. IG expects that most of the wetlands onsite would be avoided and only a minimal amount of the wetlands onsite would be permanently lost as a result of this project. IG estimates 400 acres of the site would need to be raised from one to seven feet in order to elevate the plant site out of the 100-year floodplain. As a result, DOE will prepare a floodplain and wetland assessment in accordance with its regulations at 10 CFR Part 1022 and include the assessment in the EIS.

Alternatives

In determining the range of reasonable alternatives to be considered in the EIS, DOE identified alternatives that would satisfy the underlying purpose and need for agency action. DOE currently plans to analyze in detail the project as proposed by IG and the no action alternative. As appropriate, DOE will also analyze alternatives to portions of the project that lessen or avoid impacts to affected resources and mitigation measures.

Under the no action alternative, DOE would not provide the loan guarantee for the IG project and the project would not be constructed as part of the DOE loan guarantee program.

Preliminary Identification of Environmental Issues

The following environmental resource areas have been tentatively identified for consideration in the EIS. This list is neither intended to be all-inclusive nor a predetermined set of potential environmental impacts:

• Air quality.

• Greenhouse gas emissions and climate change.

• Energy use and production.

• Water resources, including groundwater and surface waters.

• Wetlands and floodplains.

• Geological resources.

• Ecological resources, including threatened and endangered species and species of special concern.

• Cultural resources, including historic structures and properties; sites of religious and cultural significance to Tribes; and archaeological resources.

• Land use.

• Visual resources and aesthetics.

• Transportation and traffic.

• Noise and vibration.

• Hazardous materials and solid waste management.

• Human health and safety.

• Accidents and terrorism.

• Socioeconomics, including impacts to community services.

• Environmental justice.

DOE invites comments on whether other resource areas or potential issues should be considered in the EIS:

Public Scoping Process

To ensure that all issues related to DOE's proposed action are addressed, DOE seeks public input to define the scope of the EIS. The public scoping period will begin with publication of this NOI and end on December 14, 2009. Interested government agencies, private-sector organizations, and the general public are encouraged to submit comments concerning the content of the EIS, issues and impacts to be addressed in the EIS, and alternatives that should be considered. Scoping comments should clearly describe specific issues or topics that the EIS should address to assist DOE in identifying significant issues. Comments must be postmarked or e-mailed by December 14, 2009 to ensure consideration. (See ADDRESSES). Late comments will be considered to the extent practicable. DOE invites those agencies with jurisdiction by law or special expertise to be cooperating agencies.

A public scoping meeting will be held at a date, time, and location to be determined. Notice of this meeting will be provided in local news media and on the DOE Loan Guarantee Program's “NEPA Public Involvement” Web site (http://www.lgprogram.energy.gov/NEPA-2.html) at least 15 days prior to the date of the meeting. Members of the public and representatives of groups and Federal, state, local, and Tribal agencies are invited to attend. The meeting will include both a formal opportunity to present oral comments and an informal session during which DOE and IG personnel will be available for discussions with attendees. Displays and other forms of information about the proposed agency action, the EIS process, and the IG proposed Facility will also be available for review. DOE requests that anyone who wishes to present oral comments at the meeting contact Mr. Boren by phone or e-mail (see ADDRESSES above). Individuals who do not make advance arrangements to speak may register at the meeting. DOE may need to limit speakers to five minutes initially, but will provide additional opportunities as time permits. Written comments regarding the scoping process can also be submitted to DOE officials at the scoping meeting.

Issued in Washington, DC, on November 6, 2009.
Steve Isakowitz,
Chief Financial Officer, Office of the Chief Financial Officer.

[FR Doc. E9-27166 Filed 11-10-09; 8:45 am]

BILLING CODE 6450-01-P